DEPARTMENT OF HOMELAND SECURITY

Coast Guard

33 CFR Parts 100 and 165

[Docket Number USCG-2013-0447]

RIN 1625-AA08; 1625-AA00

Special Local Regulations and Safety Zones; Marine Events in Captain of the Port Long Island Sound Zone

AGENCY: Coast Guard, DHS.

ACTION: Temporary final rule.

SUMMARY: The Coast Guard is establishing one special local regulation for a regatta and four safety zones for two fireworks displays and two swim events within the Captain of the Port (COTP) Long Island Sound (LIS) Zone. This action is necessary to provide for the safety of life on navigable waters during these events. The special local regulation and safety zones will facilitate public notification of the event and provide protective measures for the maritime public and event participants from the hazards associated with these events. Entry into, transit through, mooring or anchoring within these zones is prohibited unless authorized by COTP Sector Long Island Sound.

DATES: This rule is effective from July 10, 2013 to September 1, 2013. Certain provisions of this rule address events and dates which have already passed. Those regulations were enforced with actual notice on the event dates. Other provisions of this rule will be enforced during the specific dates and times listed in § 100.35T01-0447 and Tables 1 and 2 of § 165.T01-0447.

ADDRESSES: Documents mentioned in this preamble are part of docket [USCG-2013-0447]. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email Petty Officer Scott Baumgartner, Prevention Department, Coast Guard Sector Long Island Sound, (203) 468-4559, Scott.A.Baumgartner@uscg.mil. If you have questions on viewing or submitting material to the docket, call Barbara Hairston, Program Manager, Docket Operations, telephone (202) 366-9826.

SUPPLEMENTARY INFORMATION:

Table of Acronyms

COTP Captain of the Port

DHS Department of Homeland Security

FR Federal Register

LIS Long Island Sound

NPRM Notice of Proposed Rulemaking

A. Regulatory History and Information

The Coast Guard is issuing this temporary rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because Coast Guard was not provided enough notice by the sponsoring organizations and these temporary regulations will help promote the safety of event participants and the maritime public. More specific details for each event are listed below.

The Connecticut River Raft Race is a recurring marine event that has previously gone through the public comment process and is currently listed as a permanent marine event in the Code of Federal Regulations. For this year's event, the start and finish points of the race have been relocated to spots within the same general vicinity of Middletown, CT, but with improved access to the Connecticut River creating safer entry and exit conditions for event participants and support personnel. Recently, the Coast Guard received information on the new positions in the marine event application submitted on April 4, 2013, and learned from event Race Committee President, Dan Pritchard, that the race has previously utilized these newly requested access points for the past four years. The application of April 4, 2013 was not received 135 days in advance of the event and therefore has resulted in late notice to the Coast Guard. However, requiring a move to the original positions does not promote the safety of the event participants and crews. Further, no comments have been received by U.S. Coast Guard Sector Long Island Sound regarding the change of the events start and finish points.

The Coast Guard received information about the Riverhead Rocks Triathlon from the event sponsor, Event Power, on May 2, 2013. Event Power held the Riverhead Rocks Triathlon during the previous year but did not submit a marine event application for the event and was not aware of the requirement for submitting a request for a new event 135 days in advance, resulting in late notification to the Coast Guard. Event Power is unable to reschedule the event as the triathlon is being held in conjunction with additional prescheduled activities occurring the same weekend, and because of the difficulty of rescheduling the early morning start of the swim event with the desired high tide cycle. While the event impacts a navigable channel, there is little commercial traffic along the affected section of the Peconic River and the swim event is expected to last approximately one hour.

The Coast Guard received a marine event application for the Go 4th Saltaire Bay Fireworks Display on April 19, 2013. This is a new event and the event sponsor, Go 4th Committee, was not aware of the requirement for submitting a request for a new event 135 days in advance. Therefore, Go 4th Committee's event application of April 19, 2013 has resulted in late notification to the Coast Guard. The Event Sponsor is unable to reschedule the event because of its association with Independence Day celebrations.

In addition to the Go 4th Committee's fireworks display application, the Coast Guard has also received a marine event application for the Village of Saltaire Fireworks Display on April 25, 2013. The event is schedule to take place on August 3, 2013. This is a new event and the event sponsor, Village of Saltaire, was not aware of the requirement for submitting a request for a new event 135 days in advance. As a result the application of April 25, 2013 has resulted in late notification to the Coast Guard. Additionally, as a result of the event being funded through a combination of public and private funds, which have been appropriated with the specific intent of holding the event on August 3, 2013, the Village of Saltaire is unable to reschedule the event.

The Coast Guard received information about the Smith Point Triathlon from the event sponsor, Event Power, on May 2, 2013. The triathlon has been held in late August and in the same location each year for past six years. Event Power did not submit a marine event application for any previous occurrences and was not aware of the requirement for submitting a request for a new event 135 days in advance, resulting in late notification to the Coast Guard. Event Power is unwilling and unable to reschedule the event because of its previous history and present advertising of the event occurring in late August and in its current location. Further, rescheduling for a later date would move the event into the fall and put event participants, support personnel, and other waterway users at greater risk due to lower water temperatures. The event does not impact a navigable channel and the swim event is expected to last approximately one hour.

Under 5 U.S.C. 553(d)(3), the Coast Guard finds that good cause exists for making this rule effective less than 30 days after publication in the Federal Register. The earliest event identified in this rule is scheduled to begin on June 30, 2013. This rule is unlikely to be published before that date and any delay in the effective period could increase the risk for event participants and other waterway users.

B. Basis and Purpose

The legal basis for this temporary rule is 33 U.S.C. 1226, 1231, 1233; 46 U.S.C. Chapters 454, 701, 3306, 3703; 50 U.S.C. 191, 195; 33 CFR 1.05-1, 6.04-1, 6.04-6 and 160.5; Pub. L. 107-295, 116 Stat. 2064; Department of Homeland Security Delegation No. 0170.1 which collectively authorize the Coast Guard to define regulatory special local regulations and safety zones.

This temporary rule establishes special local regulations and safety zones in order to provide for the safety of life on navigable waterways during regattas, fireworks displays and swim events.

C. Discussion of the Temporary Final Rule

This temporary rule modifies one special local regulation for a regatta and establishes safety zones for two swim events and two fireworks displays.

Regattas
1 Connecticut River Raft Race | • Location: All waters of the Connecticut River Middletown, CT between Gildersleeve Island (Marker no. 99) 41°36′02.13″ N 072°37′22.71″ W and Portland Riverside Marina (Marker no. 88) 41°33′38.30″ N 072°37′36.53″ W (NAD 83).
Fireworks Displays
2 Go 4th Saltaire Bay Fireworks | • Location: Barge in Saltaire Bay near Saltaire, NY in approximate position 40°38′37.72″ N, 073°11′58.52″ W (NAD 83).
3 Village of Saltaire Fireworks | • Location: Barge in Saltaire Bay near Saltaire, NY in approximate position 40°38′37.72″ N, 073°11′58.52″ W (NAD 83).
Swim Events
4 Riverhead Rocks Triathlon | • Location: All waters of the Peconic River, Riverhead, NY between the area bounded to the west by a line connecting points at 40°54′58.09″ N 072°39′37.56″ W on the northern bank and 40°54′56.74″ N 072°39′37.56″ W on the southern bank and bounded to the east by a line connecting points at 40°55′01.92″ N 072°38′51.08″ W on the northern bank and 40°54′59.15″ N 072°38′51.08″ W on the southern bank (NAD 83). All positions are approximate.
5 Smith Point Triathlon | • Location: Waters of Narrow Bay, Shirley, NY near Smith Point Park within the area bounded by land along its southern edge and points in position 40°44′14.28″ N 072°51′40.68″ W northerly through position 40°44′20.83″ N 072°51′40.68″ W, then easterly through position 40°44′20.83″ N 072°51′19.73″ W, then southerly through position 40°44′14.85″ N 072°51′19.73″ W (NAD 83). All positions are approximate.

The Connecticut River Raft Race involves many participants operating human-powered and/or sail-powered vessels of their own design and construction along a stretch of the Connecticut River near Middletown, CT. Due to the hazards facing these participants, including the unknown and/or untested seaworthiness of their vessels and potential limitations to vessel navigation and/or maneuverability, a regulated area is needed to protect participants, spectators and other waterway users. The Riverhead Rocks Triathlon and Smith Point Triathlon each incorporate swim legs that will place many swimmers in navigable waters. A regulated area is required to minimize the hazards posed by spectators and other waterway users operating their vessels in close proximity to the event participants. The safety zones established for these swim events will minimize risk from boat traffic to the participants and improve visibility and maneuverability for the safety vessels supporting these events. The fireworks displays listed above are expected to attract large numbers of spectator vessels that will congregate around the location of these events. Regulated areas, specifically safety zones, are established for each of these fireworks displays and are needed to protect both spectators and participants from the safety hazards created by them, including unexpected pyrotechnics detonation and burning debris.

This rule prevents vessels from entering, transiting, mooring or anchoring within areas specifically designated as regulated areas during the periods of enforcement unless authorized by the COTP or designated representative.

The Coast Guard has determined that these regulated areas will not have a significant impact on vessel traffic due to their temporary nature, limited size, and the fact that vessels are allowed to transit the navigable waters outside of the regulated areas. The COTP will cause public notifications to be made by all appropriate means including but not limited to the Local Notice to Mariners and Broadcast Notice to Mariners.

D. Regulatory Analyses

We developed this rule after considering numerous statutes and executive orders related to rulemaking. Below we summarize our analyses based on these statutes and executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders.

The Coast Guard determined that this rule is not a significant regulatory action for the following reasons: The regulated areas will be of limited duration and cover only a small portion of the navigable waterways. Furthermore, vessels may transit the navigable waterways outside of the regulated areas. Vessels requiring entry into the regulated areas may be authorized to do so by the COTP or designated representative.

Advanced public notifications will also be made to the local maritime community by the Local Notice to Mariners as well as Broadcast Notice to Mariners.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

The temporary safety zones will not have a significant economic impact on a substantial number of small entities for the following reasons: The regulated areas will be of limited size and of short duration, and vessels that can safely do so may navigate in all other portions of the waterways except for the areas designated as regulated areas. Additionally, notifications will be made before the effective period by all appropriate means, including but not limited to the Local Notice to Mariners and Broadcast Notice to Mariners well in advance of the events.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule will not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and does not create an environmental risk to health or risk to safety that may disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA) (42 U.S.C. 4321-4370f), and have determined that this action is one of a category of actions that do not individually or cumulatively have a significant effect on the human environment. This rule involves the establishment of special local regulations and safety zones. This rule is categorically excluded from further review under paragraphs 34(g) and (h) of Figure 2-1 of the Commandant Instruction. An environmental analysis checklist supporting this determination and a Categorical Exclusion Determination are available in the docket where indicated under ADDRESSES. We seek any comments or information that may lead to the discovery of a significant environmental impact from this rule.

List of Subjects

33 CFR Part 100

Marine safety, Navigation (water), Reporting and recording requirements, Waterways.

33 CFR Part 165

Harbors, Marine safety, Navigation (water), Reporting and record keeping requirements, Security measures, and Waterways.

For the reasons discussed in the preamble, the Coast Guard amends 33 CFR parts 100 and 165 as follows:

PART 100—SAFETY OF LIFE ON NAVIGABLE WATERS

1. The authority citation for part 100 continues to read as follows:

Authority: 33 U.S.C. 1233.

2. Add § 100.35T01-0447 to read as follows:

§ 100.35T01-0447 Special Local Regulation; Connecticut River Raft Race; Connecticut River; Middletown, CT.

(a) Regulated Area. The following is designated as a special local regulation area. All waters of the Connecticut River near Middletown, CT between Gildersleeve Island (Marker no. 99) 41°36′02.13″ N 072°37′22.71″ W and Portland Riverside Marina (Marker no. 88) 41°33′38.30″ N 072°37′36.53″ W (NAD 83).

(b) Enforcement Period. These special local regulations will be enforced on July 27, 2013 from 9:30 a.m. to 2:30 p.m.

(c) Definitions—(1) Designated representative. A “designated representative” is any Coast Guard commissioned, warrant or petty officer of the U.S. Coast Guard who has been designated by the Captain of the Port (COTP), Sector Long Island Sound (LIS), to act on his or her behalf. The designated representative may be on an official patrol vessel or may be on shore and will communicate with vessels via VHF-FM radio or loudhailer. In addition, members of the Coast Guard Auxiliary may be present to inform vessel operators of this regulation.

(2) Official patrol vessels. Official patrol vessels may consist of any Coast Guard, Coast Guard Auxiliary, state, or local law enforcement vessels assigned or approved by the COTP.

(3) Spectators. All persons and vessels not registered with the event sponsor as participants or official patrol vessels.

(d) Special Local Regulations. (1) Vessel operators desiring to enter or operate within the regulated areas shall contact the COTP at 203-468-4401 (Sector LIS command center) or the designated representative via VHF channel 16.

(2) Vessels may not transit the regulated areas without the COTP or designated representative approval. Vessels permitted to transit must operate at a no wake speed, in a manner which will not endanger participants or other crafts in the event.

(3) Spectators or other vessels shall not anchor, block, loiter, or impede the transit of event participants or official patrol vessels in the regulated areas during the effective dates and times, or dates and times as modified through the Local Notice to Mariners, unless authorized by COTP or designated representative.

(4) The COTP or designated representative may control the movement of all vessels in the regulated area. When hailed or signaled by an official patrol vessel, a vessel shall come to an immediate stop and comply with the lawful directions issued. Failure to comply with a lawful direction may result in expulsion from the area, citation for failure to comply, or both.

(5) The COTP or designated representative may delay or terminate any marine event in this subpart at any time it is deemed necessary to ensure the safety of life or property.

PART 165—REGULATED NAVIGATION AREAS AND LIMITED ACCESS AREAS

1. The authority citation for Part 165 continues to read as follows:

Authority: 33 U.S.C. 1226, 1231; 46 U.S.C. Chapter 701, 3306, 3703; 50 U.S.C. 191, 195; 33 CFR 1.05-1, 6.04-1, 6.04-6, and 160.5; Pub. L. 107-295, 116 Stat. 2064; and Department of Homeland Security Delegation No. 0170.1

2. Add § 165.T01-0447 to read as follows:

§ 165.T01-0447 Safety Zones; Fireworks Displays and Swim Events in Captain of the Port Long Island Sound Zone.

(a) Regulations. The general regulations contained in 33 CFR 165.23 as well as the following regulations apply to the events listed in the TABLES 1 and 2 of § 165.T01-0447. These regulations will be enforced for the duration of each event.

(b) Enforcement Period. This rule will be enforced from on the dates and times listed for each event in TABLES 1 and 2 of § 165.T01-0447. If the event is delayed by inclement weather, the regulations will be enforced on the rain date indicated in TABLES 1 and 2 of § 165.T01-0447.

(c) Definitions. The following definitions apply to this section:

(1) Designated Representative. A “designated representative” is any Coast Guard commissioned, warrant or petty officer of the U.S. Coast Guard who has been designated by the Captain of the Port (COTP), Sector Long Island Sound, to act on his or her behalf. The designated representative may be on an official patrol vessel or may be on shore and will communicate with vessels via VHF-FM radio or loudhailer. In addition, members of the Coast Guard Auxiliary may be present to inform vessel operators of this regulation.

(2) Official Patrol Vessels. Official patrol vessels may consist of any Coast Guard, Coast Guard Auxiliary, state, or local law enforcement vessels assigned or approved by the COTP.

(3) Spectators. All persons and vessels not registered with the event sponsor as participants or official patrol vessels.

(d) Spectators desiring to enter or operate within the regulated areas should contact the COTP or the designated representative via VHF channel 16 or by telephone at (203) 468-4401 to obtain permission to do so. Spectators given permission to enter or operate in the regulated area must comply with all directions given to them by the COTP Sector Long Island Sound or the designated on-scene representative.

(e) Upon being hailed by an official patrol vessel or the designated representative, by siren, radio, flashing light or other means, the operator of the vessel shall proceed as directed. Failure to comply with a lawful direction may result in expulsion from the area, citation for failure to comply, or both.

(f) The regulated area for all fireworks displays listed in the TABLE 1 of § 165.T01-0447 is that area of navigable waters within a 600 foot radius of the launch platform for each fireworks display. Fireworks barges used in these locations will also have a sign on their port and starboard side labeled “FIREWORKS—STAY AWAY.” This sign will consist of 10 inch high by 1.5 inch wide red lettering on a white background.

(g) For all swim events listed in TABLE 2 to § 165.T01-447, vessels not associated with the event shall maintain a separation of at least 100 yards from the participants.

Table 1 to § 165.T01-0447
Fireworks Display Events
1 Go 4th Saltaire Bay Fireworks | • Date: July 4, 2013 from 9 p.m. until 10:30 p.m. • Rain Date: July 5, 2013 from 9 p.m. until 10:30 p.m. • Location: Waters of the Saltaire Bay off Saltaire, NY in approximate position 40°38′37.72″ N, 073°11′58.52″ W (NAD 83).
2 Village of Saltaire Fireworks | • Date: August 3, 2013 from 9 p.m. until 10:30 p.m. • Rain Date: August 31, 2013 from 9 p.m. until 10:30 p.m. • Rain Date: September 1, 2013 from 9 p.m. until 10:30 p.m. • Location: Waters of the Saltaire Bay off Saltaire, NY in approximate position 40°38′37.72″ N, 073°11′58.52″ W (NAD 83).

Table 2 to § 165.T01-0447
Swim Events
1 Riverhead Rocks Triathlon | • Date: June 30, 2013 from 6:45 a.m. until 8 a.m. • Location: All waters of the Peconic River, Riverhead, NY between the area bounded to the west by a line connecting points at 40°54′58.09″ N 072°39′37.56″ W on the northern bank and 40°54′56.74″ N 072°39′37.56″ W on the southern bank and bounded to the east by a line connecting points at 40°55′01.92″ N 072°38′51.08″ W on the northern bank and 40°54′59.15″ N 072°38′51.08″ W on the southern bank (NAD 83). All positions are approximate.
2 Smith Point Triathlon | • Date: August 4, 2013 from 6:15 a.m. until 9:30 a.m. • Location: Waters of Narrow Bay, Shirley, NY near Smith Point Park within the area bounded by land along its southern edge and points in position 40°44′14.28″ N 072°51′40.68″ W northerly through position 40°44′20.83″ N 072°51′40.68″ W, then easterly through position 40°44′20.83″ N 072°51′19.73″ W, then southerly through position 40°44′14.85″ N 072°51′19.73″ W (NAD 83). All positions are approximate.

Dated: June 27, 2013.
J.M. Vojvodich,
Captain, U.S. Coast Guard, Captain of the Port Sector Long Island Sound.

[FR Doc. 2013-16522 Filed 7-9-13; 8:45 am]

BILLING CODE 9110-04-P